DEPARTMENT OF COMMERCE

National Oceanic and Atmospheric Administration

RIN 0648-XC950

Caribbean Fishery Management Council; Scoping Meeting

AGENCY: National Marine Fisheries Service (NMFS), National Oceanic and Atmospheric Administration (NOAA), Commerce.

ACTION: Notice of a scoping meeting.

SUMMARY: The Caribbean Fishery Management Council (Council) will hold a scoping meeting to obtain input from fishers, the general public, and the local agencies representatives on the development of compatible regulations for three seasonally closed areas off Puerto Rico. The Council is considering modifying the seasonal closures of Abrir La Sierra, Bajo de Sico, and Tourmaline Bank. The goal of modifying the closures is to protect the red hind spawning aggregations and large individuals of snappers and groupers from directed fishing pressure to achieve a more natural sex ratio, age, and size structure, while minimizing adverse social and economic effects. See SUPPLEMENTARY INFORMATION.

DATES: The scoping meeting will be held on November 25, 2013, from 7 p.m. to 10 p.m.

ADDRESSES: The scoping meeting will be held at the Holiday Inn Mayagüez, 2701 Highway #2, Mayagüez, Puerto Rico.

FOR FURTHER INFORMATION CONTACT: Caribbean Fishery Management Council, 270 Muñoz Rivera Avenue, Suite 401, San Juan, Puerto Rico 00918-1903; telephone: (787) 766-5926.

SUPPLEMENTARY INFORMATION: The Options Paper entitled “Developing Compatible Regulations for Three Seasonally Closed Areas off Puerto Rico: Abrir La Sierra Bank, Bajo de Sico, and Tourmaline Bank,” considers the following alternative actions:

Action 1: Modify the length of the closed season for Abrir La Sierra.

Option 1: No Action—do not modify the seasonal closure of Abrir La Sierra.

Option 2: Modify the seasonal closure of Abrir La Sierra to a 6 month closure from October 1-March 31.

Option 3: Modify the seasonal closure of Abrir La Sierra to a 6 month closure from December 1-May 31.

Option 4: Modify the closure of Abrir La Sierra to 12 months.

Action 2: Modify the length of the closed season for Tourmaline Bank.

Option 1: No Action—do not modify the seasonal closure of Tourmaline Bank.

Option 2: Modify the seasonal closure of Tourmaline Bank to a 6 month closure from October 1-March 31.

Option 3: Modify the seasonal closure of Tourmaline Bank to a 6 month closure from December 1-May 31.

Option 4: Modify the closure of Tourmaline Bank to 12 months.

Action 3: Modify the length of the closed season for Bajo de Sico.

Option 1: No Action—do not modify the seasonal closure of Bajo de Sico.

Option 2: Modify the seasonal closure of Bajo de Sico to a 3 month closure from December 1-End of February.

Option 3: Modify the seasonal closure of Bajo de Sico to a 6 month closure from December 1-May 31.

Option 4: Modify the closure of Bajo de Sico to 12 months.

Action 4: Prohibit Fishing Activities in Abrir La Sierra.

Option 1: No Action—Do not modify the species prohibited during the seasonal closure of Abrir La Sierra.

Option 2: During the seasonal closure of Abrir La Sierra specified in Action 1, prohibit fishing for council-managed reef fish.

Option 3: During the seasonal closure of Abrir La Sierra specified in Action 1, prohibit fishing for and possession of council-managed reef fish species.

Option 4: During the seasonal closure of Abrir La Sierra specified in Action 1, prohibit fishing for spiny lobster.

Option 5: During the seasonal closure of Abrir La Sierra specified in Action 1, prohibit fishing for and possession of spiny lobster.

Option 6: During the seasonal closure of Abrir La Sierra specified in Action 1, prohibit fishing for and possession of all species.

Action 5: Prohibit Fishing Activities in Tourmaline Bank.

Option 1: No Action—Do not modify the species prohibited during the seasonal closure of Tourmaline Bank.

Option 2: During the seasonal closure of Tourmaline Bank specified in Action 2, prohibit fishing for council-managed reef fish.

Option 3: During the seasonal closure of Tourmaline Bank specified in Action 2, prohibit fishing for and possession of council-managed reef fish species.

Option 4: During the seasonal closure of Tourmaline Bank specified in Action 2, prohibit fishing for spiny lobster.

Option 5: During the seasonal closure of Tourmaline Bank specified in Action 2, prohibit fishing for and possession of spiny lobster.

Option 6: During the seasonal closure of Tourmaline Bank specified in Action 2, prohibit fishing for and possession of all species.

Action 6: Prohibit Fishing Activities in Bajo de Sico.

Option 1: No Action—Do not modify the prohibition on fishing for or possession of Council-managed reef fish during the seasonal closure of Bajo de Sico.

Option 2: During the seasonal closure of Bajo de Sico specified in Action 3, prohibit fishing for Council-managed reef fish.

Option 3: During the seasonal closure of Bajo de Sico specified in Action 3, prohibit fishing for spiny lobster.

Option 4: During the seasonal closure of Bajo de Sico specified in Action 3, prohibit fishing for and possession of spiny lobster.

Option 5: During the seasonal closure of Bajo de Sico specified in Action 3, prohibit fishing for all species.

Option 6: During the seasonal closure of Bajo de Sico specified in Action 3, prohibit fishing for and possession of all species.

Action 7: Prohibit Anchoring in Abrir La Sierra.

Option 1: No Action—do not prohibit anchoring by vessels in Abrir La Sierra.

Option 2: Prohibit anchoring for 3 months in Abrir La Sierra. The 3-month closure will coincide with the closure period chosen in Action 1.

Option 3: Prohibit anchoring for 6 months in Abrir La Sierra. The 6-month closure will coincide with the closure period chosen in Action 1.

Option 4: Prohibit anchoring year-round in Abrir La Sierra.

Action 8: Prohibit Anchoring in Tourmaline Bank.

Option 1: No Action—do not prohibit anchoring by vessels in Tourmaline Bank.

Option 2: Prohibit anchoring for 3 months in Tourmaline Bank. The 3-month closure will coincide with the closure period chosen in Action 2.

Option 3: Prohibit anchoring for 6 months in Tourmaline Bank. The 6-month closure will coincide with the closure period chosen in Action 2.

Option 4: Prohibit anchoring year-round in Tourmaline Bank.

Action 9: Prohibit Anchoring in Bajo de Sico.

Option 1: No Action—maintain the year-round prohibition on anchoring by vessels in Bajo de Sico.

Option 2: Prohibit anchoring for 6 months in Bajo de Sico. The 6-month closure will coincide with the closure period chosen in Action 2.

Option 3: Prohibit anchoring for 3 months (December 1 through the end of February) in Bajo de Sico.

Option 4: Do not prohibit anchoring in Bajo de Sico.

Action 10: Prohibit Spearfishing in Abrir La Sierra.

Option 1: No Action—do not prohibit spearfishing in Abrir La Sierra.

Option 2: Prohibit spearfishing in Abrir La Sierra for 3 months. The 3-month closure will coincide with the closure period chosen in Action 1.

Option 3: Prohibit spearfishing in Abrir La Sierra for 6 months. The 6-month closure will coincide with the closure period chosen in Action 1.

Option 4: Prohibit spearfishing year-round in Abrir La Sierra.

Action 11: Prohibit Spearfishing in Tourmaline Bank.

Option 1: No Action—do not prohibit spearfishing in Tourmaline Bank.

Option 2: Prohibit spearfishing in Tourmaline Bank for 3 months. The 3-month closure will coincide with the closure period chosen in Action 2.

Option 3: Prohibit spearfishing in Tourmaline Bank for 6 months. The 6-month closure will coincide with the closure period chosen in Action 2.

Option 4: Prohibit spearfishing year-round in Tourmaline Bank.

Action 12: Prohibit Spearfishing in Bajo de Sico.

Option 1: No Action—do not prohibit spearfishing in Bajo de Sico.

Option 2: Prohibit spearfishing in Bajo de Sico for 3 months. The 3-month closure will coincide with the closure period chosen in Action 3.

Option 3: Prohibit spearfishing in Bajo de Sico for 6 months. The 6-month closure will coincide with the closure period chosen in Action 3.

Option 4: Prohibit spearfishing year-round in Bajo de Sico.

The Caribbean Fishery Management Council will hold a scoping meeting to receive public input on the management options mentioned above. The complete document is available at: www.caribbeanfmc.com or you may contact Ms. Livia Montalvo at livia_montalvo_cfmc@yahoo.com, or the Council office at (787) 766-5926 to obtain copies.

Written comments can be sent to the Council not later than 5:00 p.m., December 6, 2013, by regular mail to the address below, or via email to graciela_cfmc@yahoo.com.

Special Accommodations

The meeting is physically accessible to people with disabilities. For more information or request for sign language interpretation and other auxiliary aids, please contact Mr. Miguel A. Rolón, Executive Director, Caribbean Fishery Management Council, 270 Muñoz Rivera Avenue, Suite 401, San Juan, Puerto Rico 00918-1903, telephone: (787) 766-5926, at least 5 days prior to the meeting date.

Dated: October 30, 2013.
Tracey L. Thompson,
Acting Deputy Director, Office of Sustainable Fisheries, National Marine Fisheries Service.

[FR Doc. 2013-26360 Filed 11-1-13; 8:45 am]

BILLING CODE 3510-22-P